DEPARTMENT OF THE INTERIOR

Fish and Wildlife Service

Availability of a Draft Environmental Assessment and Receipt of an Application for an Incidental Take Permit for The Meadows, Douglas County, CO

AGENCY: Fish and Wildlife Service, Interior.

ACTION: Notice of availability and receipt of application.

SUMMARY: Castle Rock Development Company and Castle Rock Land Company have applied to the Fish and Wildlife Service (Service) for an incidental take permit pursuant to section 10(a)(1)(B) of the Endangered Species Act of 1973, as amended (Act). The permit would authorize the incidental take of Preble's meadow jumping mouse (Zapus hudsonius preblei) (“Preble's”), federally listed as threatened, and loss and modification of its habitat associated with construction and use of a portion of The Meadows property in the Town of Castle Rock, Colorado. The permit would be in effect for 30 years from the date of issuance.

We announce the receipt of the applicants' incidental take permit application that includes a combined proposed Habitat Conservation Plan (HCP) and Environmental Assessment (EA) for the Preble's at The Meadows. The proposed HCP/EA is available for public comment. It fully describes the proposed project and the measures the applicants would undertake to minimize and mitigate project impacts to Preble's.

The Service requests comments on the Plan for the proposed issuance of an Incidental Take Permit. We provide this notice pursuant to section 10(c) of the Act and National Environmental Policy Act regulations (40 CFR 1506.6). All comments on the Plan and permit application will become part of the administrative record and will be available to the public.

DATES: Written comments on the permit application, Habitat Conservation Plan, and Environmental Assessment should be received on or before February 18, 2003.

ADDRESSES: Comments regarding the permit application and HCP/EA should be addressed to LeRoy Carlson, Field Supervisor, U.S. Fish and Wildlife Service, Colorado Field Office, 755 Parfet Street, Suite 361, Lakewood, Colorado 80215.

FOR FURTHER INFORMATION CONTACT: Kathleen Linder, Fish and Wildlife Biologist, Colorado Field Office, telephone (303) 275-2370.

SUPPLEMENTARY INFORMATION:

Document Availability

Individuals wishing copies of the HCP/EA and associated documents for review should immediately contact the above office. Documents also will be available for public inspection, by appointment, during normal business hours at the Lakewood, Colorado, Field Office (see ADDRESSES above).

Background

Section 9 of the Act and Federal regulation prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

The applicants plan to develop portions of The Meadows in Douglas County, Colorado, that may constitute habitat for the Preble's. Such development would include commercial parcels, water well construction and a recreational trail extension. The planning area for the permit application is approximately 194 hectares (480 acres) and is located west of Interstate Highway 25 (I-25), within the corporate boundaries of the Town of Castle Rock. The area subject to the permit application straddles the East Plum Creek drainage and is entirely contained within two major railway lines, with the exception of one small parcel. An existing bridge spans East Plum Creek and carries The Meadows Parkway as it crosses the property on the southern (upstream) portion of the property. The project would permanently alter a total of 3.5 hectares (8.6 acres) of vegetation within the riparian corridor and would temporarily alter an additional 10.06 hectares (24.87 acres) of vegetation. As discussed below, the applicants propose a number of measures to mitigate possible impacts of the proposed action.

Alternatives considered in addition to the proposed action were: alternative site design based on land use plans approved by the Town of Castle Rock, alternative site location, wait for a regional 10(a)(1)(B) permit, and no action. None of these alternatives eliminated potential take of Preble's.

Only one federally listed species, the threatened Preble's, occurs onsite and has the potential to be adversely affected by the project. To mitigate impacts that may result from incidental take, the HCP provides that mitigation will include the dedication of 17.5 hectares (43.3 acres) of additional open space (in addition to 98.6 hectares (243.7 acres) already designated as open space), enhancement of habitat within 4 hectares (10 acres) of existing open space, segregation of commercial areas and riparian areas with barriers, revegetation of areas of temporary disturbance with native vegetation, limitations on project sizes, limitations on access, elimination of cattle grazing, and regulation of trail use and location. All efforts will be made to minimize the temporary disturbance during construction of water wells and water delivery systems and impacts to in-stream flows. All construction will be initiated between October 15 and April 30 to minimize and avoid impacts to Preble's.

The Applicants are committed to providing the necessary funding to support the mitigation. The Applicants will place the necessary funds into an escrow or similar type account that will limit use of the funds to mitigation activities.

This notice is provided pursuant to section 10(c) of the Act. We will evaluate the permit application, the plan, and comments submitted therein to determine whether the application meets the requirements of section 10(a)(1)(B) of the Act. If it is determined that those requirements are met, a permit will be issued for the incidental take of the Preble's in conjunction with the construction and use of The Meadows. The final permit decision will be made no sooner than 60 days from the date of this notice.

Dated: December 4, 2002.
Ralph O. Morgenweck,
Regional Director, Denver, Colorado.

[FR Doc. 02-31773 Filed 12-17-02; 8:45 am]

BILLING CODE 4310-55-P